DEPARTMENT OF HOUSING AND URBAN DEVELOPMENT

[Docket No. FR-4817-N-11]

Notice of Proposed Information Collection for Public Comment—Public Housing Financial Management Template

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: October 27, 2003.

ADDRESSES: Interested persons are invited to submit comments regarding this proposal. Comments should refer to the proposal by name and/or OMB Control number and should be sent to: Mildred M. Hamman, Reports Liaison Officer, Public and Indian Housing, Department of Housing and Urban Development, 451 7th Street, SW., Room 4249, Washington, DC 20410-5000.

FOR FURTHER INFORMATION CONTACT: Mildred M. Hamman, (202) 708-0614, extension 4128, for copies of the proposed forms and other available documents. (This is not a toll-free number).

SUPPLEMENTARY INFORMATION: The Department will submit the proposed information collection to OMB for review, as required by the Paperwork Reduction Act of 1995 (44 U.S.C. chapter 35, as amended).

This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

The Public Housing Financial Management template is the set of documents on which the Department collects financial information from Public Housing Agencies (PHAs). Pursuant to the Public Housing Assessment System (PHAS) regulation, PHAs annually submit both unaudited and audited financial information to the Department using the financial management template. In accordance with HUD regulatory requirements, PHAs enter the financial information on the template and electronically submit to HUD.

This notice also lists the following information:

Title of Proposal: Public Housing Financial Management Template.

OMB Control Number: 2535-0107.

Description of the need for the information and proposed use: The Uniform Financial Reporting Standards (UFRS) for HUD Housing Programs requires PHAs to submit financial data electronically, using Generally Accepted Accounting Principles (GAAP), in a prescribed format. The financial management template is that format. HUD uses the financial information it collects from PHAs to assist in the evaluation and assessment of the PHAs overall condition. Requiring PHAs to report electronically has enabled HUD to provide a more comprehensive assessment of the PHAs receiving Federal funds.

Agency form numbers, if applicable: Not applicable.

Members of affected public: Local, State, or tribal governments, not-for-profit institutions.

Estimation of the total number of hours needed to prepare the information collection including number of respondents, frequency of response, and hours of response: 3,173 PHAs; annual submission per PHA; average hours for PHA response is 10 hours; the total reporting burden is 31,961 hours.

Status of the proposed information collection: Extension of a currently approved collection.

Authority: Section 3506 of the Paperwork Reduction Act of 1995, 44 U.S.C. chapter 35, as amended.

Dated: August 20, 2003.
Michael Liu,
Assistant Secretary for Public and Indian Housing.

[FR Doc. 03-21929 Filed 8-26-03; 8:45 am]

BILLING CODE 4210-33-P